ENVIRONMENTAL PROTECTION AGENCY

[ER-FRL-8584-6]

Environmental Impact Statements; Notice of Availability

Responsible Agency: Office of Federal Activities, General Information (202) 564-1399 or http://www.epa.gov/compliance/nepa/.

Weekly Receipt of Environmental Impact Statements.

Filed 08/4/2008 Through 08/8/2008

Pursuant to 40 CFR 1506.9.

EIS No. 20080306, Final EIS, AFS, 00, Nebraska and South Dakota Black-Tailed Prairie Dog Management, To Manage Prairie Dog Colonies in an Adaptive Fashion, Nebraska National Forest and Associated Units, Including Land and Resource Management Plan Amendment 3, Dawes, Sioux, Blaines Counties, NE and Custer, Fall River, Jackson, Pennington, Jones, Lyman, Stanley Counties, SD, Wait Period Ends: 09/15/2008, Contact: Mike McNeill 308-432-0315.

EIS No. 20080307, Final EIS, AFS, OR, East Maury Fuels and Vegetation Management Project, Proposed Fuels and Vegetation Treatments Reduce the Risk of Stand Loss, Lookout Mountain Ranger District, Ochoco National Forest, Crook County, OR, Wait Period Ends: 09/15/2008, Contact: Barbara Fontaine 541-416-6500.

EIS No. 20080308, Final EIS, SFW, WA, Hanford Reach National Monument Comprehensive Conservation Plan, Management of Monument Resources, Programs and Visitors for the Next 15 Years, Adams, Benton, Franklin, and Grant Counties, WA, Wait Period Ends: 09/15/2008, Contact: Charles Houghten 503-231-2096.

EIS No. 20080309, Draft EIS, TVA, GA, Mountain Reservoirs Land Management Plan, Implementation, Proposes to Develop a Plan for Managing Nine Mountain Reservoirs: Chatuge, Hiwassee, Blue Ridge, Nottely, Ocoees 1, 2, and 3, Apalachia, and Fontana Reservoirs, Fannin, Towns, and Union Counties, GA; Cherokee, Clay, Graham, and Swain Counties, North Carolina; and Polk County, TN, Comment Period Ends: 09/29/2008, Contact: Kenneth P. Parr 423-751-4254.

EIS No. 20080310, Final EIS, COE, NC, West Onslow Beach and New River Inlet (Topsail Beach) Shore Protection Project, Storm Damages and Beach Erosion Reduction, Funding, Pender County, NC, Wait Period Ends: 09/15/2008, Contact: Glenn McIntosh 910-251-4671.

EIS No. 20080311, Final EIS, FTA, CO, Denver Union Station (DUS) Project, Transportation Improvement, Multimodal Transportation Center for the Metro Denver Region, Funding and NPDES Permit, City and County, Denver, CO, Wait Period Ends: 09/29/2008, Contact: James Barr 202-493-2633.

EIS No. 20080312, Draft EIS, FHW, SC, Southern Evacuation Lifeline Project, Proposed New Location Freeway Which Would Provide Improved Hurricane Evacuation, Congestion Relief, Improved Access to Services East and West of the Waccamaw River, Horry and Georgetown Counties, SC, Comment Period Ends: 09/29/2008, Contact: Patrick Tyndall 803-765-5460.

EIS No. 20080313, Draft EIS, UAF, UT, White Elk Military Operations Area, Propose to Establish a New Military Operations Area (MOA) Linked to the Utah Test and Training Range (UTTR) Airspaces, Hill Air Force Base, UT, Comment Period Ends: 09/29/2008, Contact: Sheryle Parker 757-764-9334.

Amended Notices

EIS No. 20080305, Final EIS, CGD, AL, Bienville Offshore Energy Terminal (BOET) Deepwater Port License Application (Docket # USCG-2006-24644), Proposes to Construct and Operate a Liquefied Natural Gas Receiving and Regasification Facility, Outer Continental Shelf of the Gulf of Mexico, South of Fort Morgan, AL, Wait Period Ends: 09/22/2008, Contact: Ltc. Hannah Kim 202-372-1438. Revision to FR Notice Published 8/08/2008: Correction to Wait Period from 09/08/2008 to 9/22/2008.

Dated: August 12, 2008.
Ken Mittelholtz,
Environmental Protection Specialist, Office of Federal Activities.

[FR Doc. E8-18976 Filed 8-14-08; 8:45 am]

BILLING CODE 6560-50-P